DEPARTMENT OF THE INTERIOR

Bureau of Land Management

[UT-090-05-1220-PM]

Notice of Closure of Public Lands to Off-Road Vehicle (ORV) Use

AGENCY: Bureau of Land Management, Interior.

ACTION: Notice of closure.

SUMMARY: Notice is hereby given that effective immediately, the Bureau of Land Management (BLM), Monticello Field Office, is closing 1,835 acres of public lands in Bluff, Utah, to Off Road Vehicle (ORV) use. The public lands affected by this closure are in the following sections of T. 40 S., R. 21 E., SLB&M: Section 14, E½; Section 22, All; Section 23, NE(f), W½, N½SE¼, N½S½SE¼, S½S¼SE(f); Section 26, NW¼NE¼(f), N½NW¼(f) Section 27, N½N½NE¼, S½NW¼NE¼, N½NW¼(f) ((f)—fractional portion). The purpose of the closure is to protect soils, vegetation and cultural resources that have been adversely impacted or are at risk of being adversely impacted by ORV use. The closure will remain in effect until the considerable adverse effects giving rise to the closure are eliminated and measures are implemented to prevent recurrence of these adverse effects.

FOR FURTHER INFORMATION CONTACT: Sandra Meyers, Field Office Manager, Monticello Field Office, Bureau of Land Management, P.O. Box 7, Monticello, Utah 84535; (435) 587-1500.

SUPPLEMENTARY INFORMATION: BLM is implementing this action on 1,835 acres of public land in San Juan County, in southeast Utah. BLM's Monticello Field Office has observed and documented considerable adverse effects from ORV use in this area to soils, vegetation, and cultural resources. Based on this information, BLM's authorized officer has determined that ORV use in this area is causing, or will cause, considerable adverse effects upon soils, vegetation, and cultural resources. Consequently, this area is being closed to ORV use. A map showing the closure area is available for public inspection at the Bureau of Land Management, Monticello Field Office at the above address. ORV use on the remainder of the public lands in San Juan County, Utah administered by BLM will be managed according to existing Federal Register orders and the 1991 San Juan Resource Area Resource Management Plan. This closure order does not apply to:

(1) Any Federal, State, or local government law enforcement officer engaged in enforcing this closure order or member of an organized rescue or fire fighting force while in the performance of an official duty.

(2) Any Bureau of Land Management employee, agent, contractor, or cooperator while in the performance of an official duty.

This order shall not be construed as a limitation on BLM's future planning efforts and/or management of ORV use on the public lands. BLM will periodically monitor resource conditions and trends in the closure area and may modify this order or implement additional limitations or closures as necessary.

The authority for this order is 43 CFR 8341.2(a).

Dated: October 15, 2004.
Sandra A. Meyers,
Field Office Manager.

[FR Doc. 05-7113 Filed 4-8-05; 8:45 am]

BILLING CODE 4310-$$-P